DEPARTMENT OF AGRICULTURE

Accounting Rules and Guidelines for Forest and Agriculture Greenhouse Gas Offsets

AGENCY: Office of the Chief Economist, Global Change Program Office.

ACTION: Notice of registration for meetings.

SUMMARY: The Department of Agriculture will hold two meetings to solicit input on the accounting rules and guidelines for forest and agriculture greenhouse gas offsets that will be used in the Department of Energy's 1605(b) greenhouse gas reporting system. These meetings will address technical methodological issues associated with preparing estimates of greenhouse gas offsets from agriculture and forestry activities and reporting them under DOE's 1605(b) program.

DATES: The Department will hold the meetings on the following dates:

1. Agriculture Accounting Rules and Guidelines, January 14-15, 2003, 8:30 a.m. to 5 p.m., Riverdale, MD.

2. Forest Accounting Rules and Guidelines, January 23, 2003, 8:30 a.m. to 5 p.m., Riverdale, MD.

ADDRESSES: The workshops will be held at the Department of Agriculture Center located at 4700 River Road, Riverdale, MD.

FOR FURTHER INFORMATION CONTACT: Registration Information: Persons interested in registering for the meetings or in obtaining more information about USDA's efforts to develop accounting rules and guidelines for forest and agriculture greenhouse gas offsets should visit the following web site: http://www.usda.gov/agency/oce/gcpo/greenhousegasreporting.htm.

The website will also be used to make available draft and final meeting agendas, information on lodging, and any background papers or other information made available before the meetings.

Technical Information: William Holhenstein, Director, Global Change Program Office, U.S. Department of Agriculture, Room 112-A, Whitten Federal Building, 1400 Independence Avenue, SW., Washington, DC 20250-3810.

(Note: due to precautionary screening of mail to Federal offices, some delays should be expected.)

Logistical Information: Inquiries regarding the logistics for these meetings may be e-mailed to sharon_barcellos@grad.usda.go.

SUPPLEMENTARY INFORMATION: On February 14, 2002, the President directed the Secretary of Agriculture, in consultation with the Department of Energy and the Environmental Protection Agency, to develop accounting rules and guidelines for crediting sequestration projects, taking into account emerging domestic and international approaches. Given the interactions between carbon sequestration and other greenhouse gas fluxes from land uses, USDA intends to develop accounting rules and guidelines for carbon and other greenhouse gas fluxes from land use practices (crops, animal agriculture, range and pasture, and forests).

On February 14, 2002, the President also directed the Secretary of Energy, in consultation with the Secretary of Commerce, the Secretary of Agriculture, and the Administrator of the Environmental Protection Agency to proposed improvements to the current voluntary emission reduction registration program under section 1605(b) of the 1992 Energy Policy Act within 120 days. These improvements will enhance measurement accuracy, reliability, and verifiability, working with and taking into account emerging domestic and international approaches.

To achieve these objectives it will be necessary to supplement or supplant the existing guidelines with new, more rigorous reporting requirements. On July 8, 2002, the Secretaries of Energy, Agriculture, and Commerce, and the Administrator of the Environmental Protection Agency wrote to be the President stating that the improvements to the existing Voluntary Greenhouse Gas Reporting Programs should:

1. Develop fair, objective, and practical methods for reporting baselines, reporting boundaries, calculating real results, and awarding transferable credits for actions that lead to real reductions.

2. Standardize widely accepted, transparent accounting methods.

3. Support independent verification of registry reports.

4. Encourage reporters to report greenhouse gas intensity (emissions per unit of output) as well as emissions or emissions reductions.

5. Encourage corporate or entity-wide reporting.

6. Provide credits for actions to remove carbon dioxide from the atmosphere as well as for actions to reduce emissions.

7. Develop a process for evaluating the extent to which past reductions may qualify for credit.

8. Assure the voluntary reporting program is an effective tool for reaching the 18 percent greenhouse gas intensity goal by 2012.

9. Factor in international strategies as well as State-level efforts.

10. Minimize transactions costs for reporters and administrative costs for the Government, where possible, without compromising the foregoing recommendations.

The meetings are intended to assist the Department in assessing the technical and methodological issues associated with developing new forest and agriculture accounting rules and guidelines. The meetings will provide an opportunity for open dialogue among farmers, forest land owners, farm groups and associations, businesses, industry associations, conservation organizations, environmental groups, institutions, individuals, and others affected interests. We intend to invite comments to ensure the full range of views and opinions are expressed. We also intend to provide an opportunity for those present to address the meeting. We also will accept and give full consideration to written views submitted including written responses to background materials prepared for the meetings. Written comments should be submitted to ghgcomments@oce.usda.gov.

Full agendas and various other materials will be made available prior to the workshop at: http://www.usda.gov/agency/oce/gcpo/greenhousegasreporting.htm.

Dated: November 15, 2002.
Keith Collins,
Chief Economist.

[FR Doc. 02-29881 Filed 11-22-02; 8:45 am]

BILLING CODE 3410-38-M